DEPARTMENT OF ENERGY

Federal Energy Regulatory Commission

Combined Notice of Filings #1

Take notice that the Commission received the following exempt wholesale generator filings:

Docket Numbers: EG15-31-000.

Applicants: Verso Bucksport Power LLC.

Description: Notice of Self-Certification as an Exempt Wholesale Generator of Verso Bucksport Power LLC.

Filed Date: 12/22/14.

Accession Number: 20141222-5277.

Comments Due: 5 p.m. ET 1/12/15.

Docket Numbers: EG15-32-000.

Applicants: Verso Bucksport LLC.

Description: Notice of Self-Certification as an Exempt Wholesale Generator of Verso Bucksport LLC.

Filed Date: 12/22/14.

Accession Number: 20141222-5287.

Comments Due: 5 p.m. ET 1/12/15.

Take notice that the Commission received the following electric rate filings:

Docket Numbers: ER15-192-000.

Applicants: Arizona Public Service Company.

Description: Report Filing: Notice of Request for Deferral to be effective N/A.

Filed Date: 12/23/14.

Accession Number: 20141223-5007.

Comments Due: 5 p.m. ET 1/13/15.

Docket Numbers: ER15-696-000.

Applicants: PJM Interconnection, L.L.C.

Description: Compliance filing per 35: Compliance Filing per 11/20/14 Order under Docket No. EL15-15-000. to be effective 2/20/2015.

Filed Date: 12/22/14.

Accession Number: 20141222-5306.

Comments Due: 5 p.m. ET 1/12/15.

Docket Numbers: ER15-697-000.

Applicants: Tonopah Solar Energy, LLC.

Description: Baseline eTariff Filing per 35.1: Application for Market-Based Rate Authorization to be effective 2/21/2015.

Filed Date: 12/22/14.

Accession Number: 20141222-5307.

Comments Due: 5 p.m. ET 1/12/15.

Docket Numbers: ER15-697-001.

Applicants: Tonopah Solar Energy, LLC.

Description: Tariff Amendment per 35.17(b): Supplement to Market-Based Rate Application to be effective 2/21/2015.

Filed Date: 12/22/14.

Accession Number: 20141222-5339.

Comments Due: 5 p.m. ET 1/12/15.

Docket Numbers: ER15-698-000.

Applicants: Northern States Power Company, a Minnesota corporation, Northern States Power Company, a Wisconsin corporation.

Description: § 205(d) rate filing per 35.13(a)(2)(iii): 20141222_IA_PI_EPU to be effective 12/31/9998.

Filed Date: 12/22/14.

Accession Number: 20141222-5360.

Comments Due: 5 p.m. ET 1/12/15.

Docket Numbers: ER15-699-000.

Applicants: Southern California Edison Company.

Description: § 205(d) rate filing per 35.13(a)(2)(iii): LGIA with North Rosamond Solar, LLC to be effective 12/24/2014.

Filed Date: 12/23/14.

Accession Number: 20141223-5008.

Comments Due: 5 p.m. ET 1/13/15.

Docket Numbers: ER15-700-000.

Applicants: Southern California Edison Company

Description: § 205(d) rate filing per 35.13(a)(2)(iii): Amended & Restated District-Edison 1987 Service & Interchange Agreement with MWD to be effective 1/1/2015.

Filed Date: 12/23/14.

Accession Number: 20141223-5009.

Comments Due: 5 p.m. ET 1/13/15.

Docket Numbers: ER15-701-000.

Applicants: Nevada Power Company.

Description: Compliance filing per 35: OATT Order No. 789 Compliance Filing to be effective 11/1/2014.

Filed Date: 12/23/14

Accession Number: 20141223-5011

Comments Due: 5 p.m. ET 1/13/15

Docket Numbers: ER15-702-000.

Applicants: Pacific Gas and Electric Company.

Description: Tariff Withdrawal per 35.15: Notice of Termination of the 1987 CCSF IA—PG&E Rate Schedule FERC No. 114 to be effective 6/30/2015.

Filed Date: 12/23/14.

Accession Number: 20141223-5012.

Comments Due: 5 p.m. ET 1/13/15.

Docket Numbers: ER15-703-000.

Applicants: Pacific Gas and Electric Company.

Description: Tariff Withdrawal per 35.15: Notice of Termination of the CCSF Facilities Charge Agreement for Moscone to be effective 6/30/2015.

Filed Date: 12/23/14.

Accession Number: 20141223-5013.

Comments Due: 5 p.m. ET 1/13/15.

Docket Numbers: ER15-704-000.

Applicants: Pacific Gas and Electric Company.

Description: § 205(d) rate filing per 35.13(a)(2)(iii): City and County of San Francisco WDT Replacement Agreements to be effective 7/1/2015.

Filed Date: 12/23/14.

Accession Number: 20141223-5015.

Comments Due: 5 p.m. ET 1/13/15.

Docket Numbers: ER15-705-000.

Applicants: Pacific Gas and Electric Company.

Description: § 205(d) rate filing per 35.13(a)(2)(iii): City and County of San Francisco TO Tariff Replacement Agreements to be effective 7/1/2015.

Filed Date: 12/23/14.

Accession Number: 20141223-5016.

Comments Due: 5 p.m. ET 1/13/15.

Docket Numbers: ER15-706-000.

Applicants: PJM Interconnection, L.L.C.

Description: § 205(d) rate filing per 35.13(a)(2)(iii): Service Agreement No. 4066; Queue No. Y1-079 to be effective 12/11/2014.

Filed Date: 12/23/14.

Accession Number: 20141223-5067.

Comments Due: 5 p.m. ET 1/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2014.
Nathaniel J. Davis, Sr.,
Deputy Secretary.

[FR Doc. 2014-30628 Filed 12-30-14; 8:45 am]

BILLING CODE 6717-01-P